DEPARTMENT OF TRANSPORTATION

Pipeline and Hazardous Materials Safety Administration

[Docket No. PHMSA-2009-0203]

Pipeline Safety: Meeting of the Gas Pipeline Advisory Committee and the Liquid Pipeline Advisory Committee

AGENCY: Pipeline and Hazardous Materials Safety Administration (PHMSA), DOT.

ACTION: Notice of advisory committee meeting.

SUMMARY: This notice announces a public meeting of the Gas Pipeline Advisory Committee (GPAC) also known as the Technical Pipeline Safety Standards Committee, and the Liquid Pipeline Advisory Committee (LPAC) also known as the Technical Hazardous Liquid Pipeline Safety Standards Committee. The committees will meet in a joint session to consider a proposed rule to incorporate by reference two new standards (one partially) and 21 updated editions of currently referenced standards in 49 CFR Parts 192, 193, and 195.

DATES: The meeting will be held on Tuesday, December 17, 2013, from 10:00 a.m. to 12:00 p.m. EST.

ADDRESSES: The committee members will take part in this joint meeting by telephone conference call. The public may participate in the meeting via telephone conference call, or at the U.S. Department of Transportation, 1200 New Jersey Avenue SE., Washington, DC 20590, Room E27-302. The conference call number and any additional information will be published on the PHMSA Web site at http://www.phmsa.dot.gov/public, under “News and Updates” on the homepage. Participants who plan to attend in person should register in advance at https://primis.phmsa.dot.gov/meetings/MtgHome.mtg?mtg=93.

The meeting will not be webcast; however, presentations will be available on the meeting Web site and posted in the E-Gov Web site at http://www.regulations.gov under Docket Number PHMSA-2013-2003 within 30 days following the meeting.

You may submit comments, identified by Docket Number PHMSA-2009-0203, by any of the following methods:

E-Gov Web: http://www.regulations.gov. This site allows the public to enter comments on any Federal Register notice issued by any agency. Follow the online instructions for submitting comments.

Mail: Docket Management System: U.S. Department of Transportation, 1200 New Jersey Avenue SE., West Building Ground Floor, Room W12-140, Washington, DC 20590-0001.

Hand Delivery or Courier: U.S. Department of Transportation Docket Management System: West Building Ground Floor, Room W12-140, 1200 New Jersey Avenue SE., between 9:00 a.m. and 5:00 p.m. EST, Monday through Friday, except Federal holidays.

Fax: 202-493-2251.

Instructions: Identify the Docket Number PHMSA-2009-0203, at the beginning of your comments. If you submit your comments by mail, submit two copies. If you wish to receive confirmation that PHMSA received your comments, include a self-addressed stamped postcard. Internet users may submit comments at http://www.regulations.gov.

Note: All comments received will be posted without edits to http://www.regulations.gov, including any personal information provided. Please see the Privacy Act heading below.

Privacy Act: Anyone is able to search the electronic comments received into any of our dockets by the name of the individual submitting the comment (or signing the comment, if submitted on behalf of an association, business, labor union, etc.). You may review DOT's complete Privacy Act Statement in the Federal Register published on April 11, 2000, (65 FR 19477-78) or you may visit http://docketsinfo.dot.gov.

Docket: For access to the docket to read background documents or comments received, go to http://www.regulations.gov. Follow the online instructions for accessing the dockets. Alternatively, you may review the documents in person at the street address listed above.

Information on Services for Individuals with Disabilities

For information on facilities or services for individuals with disabilities, or to seek special assistance at the meeting, please contact Cheryl Whetsel at 202-366-4431 by December 10, 2013.

FOR FURTHER INFORMATION CONTACT: For information about the meeting, contact Cheryl Whetsel by phone at 202-366-4431 or by email at cheryl.whetsel@dot.gov.

SUPPLEMENTARY INFORMATION:

I. Meeting Details

Members of the public may participate via telephone conference or make a statement during the advisory committee meeting. If you intend to make a statement, please notify PHMSA in advance by forwarding an email to cheryl.whetsel@dot.gov by December 10, 2013.

II. Committee Background

The GPAC and LPAC are statutorily-mandated advisory committees that advise PHMSA on proposed safety standards, risk assessments, and safety policies for natural gas pipelines and for hazardous liquid pipelines. Both committees were established under the Federal Advisory Committee Act (Pub. L. 92-463, 5 U.S.C. App. 1) and the pipeline safety law (49 U.S.C. Chap. 601). Each committee consists of 15 members—with membership evenly divided among the Federal and state government, the regulated industry, and the public. The committees advise PHMSA on the technical feasibility, practicability, and cost-effectiveness of each proposed pipeline safety standard.

III. Agenda

On Tuesday, December 17, 2013, from 10:00 a.m. to 12:00 p.m. the GPAC and LPAC will participate in a joint meeting. A detailed agenda will be published on the PHMSA Web site at http://www.phmsa.dot.gov/.

Authority: 49 U.S.C. 60102, 60115; 60118.

Issued in Washington, DC on November 19, 2013.
Alan K. Mayberry,
Deputy Associate Administrator for Policy and Programs.

[FR Doc. 2013-28249 Filed 11-25-13; 8:45 am]

BILLING CODE 4910-60-P